DEPARTMENT OF THE INTERIOR

Minerals Management Service

30 CFR Parts 250 and 254

RIN 1010-AD35

Oil and Gas and Sulphur Operations in the Outer Continental Shelf (OCS) and Oil-Spill Response Requirements for Facilities Located Seaward of the Coast Line—Change in Reference to Official Title

AGENCY: Minerals Management Service (MMS), Interior.

ACTION: Final rule.

SUMMARY: MMS is changing the title “District Supervisor” to “District Manager” in regulations to make them consistent with a change in the title within MMS.

DATES: This rule is effective on August 14, 2006.

FOR FURTHER INFORMATION CONTACT: Cheryl Blundon, Regulatory Specialist at (703) 787-1607 or FAX (703) 787-1555.

SUPPLEMENTARY INFORMATION: Background: On August 14, 2003, an official change of title for District Supervisor positions was approved by the Offshore Minerals Management Associate Director, and by the Administration and Budget Associate Director. The titles were changed from “District Supervisor” to “District Manager” due to the breadth and scope of the District Supervisors' mission. The regulations at 30 CFR parts 250 and 254 need to be amended to reflect the official change of the title.

Because this rule only changes the reference to the official title of an MMS intermediate-level manager position and makes no substantive change in any rule or requirement, MMS for good cause finds that notice and public comment are impracticable and unnecessary pursuant to 5 U.S.C. 553(b)(B). For the same reason, MMS finds good cause to waive the delay in effectiveness pursuant to 5 U.S.C. 553(d)(3), no party needing to adjust its conduct to conform to the rule.

Procedural Matters

Regulatory Planning and Review (Executive Order 12866)

This document is not a significant rule as determined by the Office of Management and Budget (OMB) and is not subject to review under E.O. 12866.

(1) This rule will not have an effect of $100 million or more on the economy. It will not adversely affect in a material way the economy, productivity, competition, jobs, the environment, public health or safety, or State, local, or tribal governments or communities.

(2) This rule will not create a serious inconsistency or otherwise interfere with an action taken or planned by another agency. It will have no effect on any other agency.

(3) This rule does not alter the budgetary effects or entitlements, grants, user fees, or loan programs or the rights or obligations of their recipients. The rule only addresses a change of title.

(4) This rule does not raise novel legal or policy issues.

Regulatory Flexibility Act (RFA)

The Department certifies that this rule will not have a significant economic effect on a substantial number of small entities as defined under the RFA (5 U.S.C. 601 et seq.).

Comments from the public are important to us. The Small Business and Agriculture Regulatory Enforcement Ombudsman and 10 Regional Fairness Boards were established to receive comments from small business about Federal agency enforcement actions. The Ombudsman will annually evaluate the enforcement activities and rate each agency's responsiveness to small business. If you wish to comment on the actions of MMS, call 1-888-734-3247. You may comment to the Small Business Administration without fear of retaliation. Disciplinary action for retaliation by an MMS employee may include suspension or termination from employment with the Department of the Interior.

Small Business Regulatory Enforcement Fairness Act (SBREFA)

This rule is not a major rule under the SBREFA (5 U.S.C. 804(2)). This rule:

a. Does not have an annual effect on the economy of $100 million or more.

b. Will not cause an increase in costs or prices for consumers, individual industries, Federal, State, or local government agencies, or geographic regions.

c. Does not have significant adverse effects on competition, employment, investment, productivity, innovation, or the ability of U.S.-based enterprises to compete with foreign-based enterprises.

Unfunded Mandates Reform Act (UMRA) of 1995

This rule does not impose an unfunded mandate on State, local, or tribal governments or the private sector of more than $100 million per year. The rule does not have a significant or unique effect on State, local or tribal governments or the private sector. A statement containing the information required by the UMRA (2 U.S.C. 1531 et seq.) is not required.

Takings Implications Assessment (Executive Order 12630)

This rule is not a governmental action capable of interference with constitutionally protected property rights. Thus, MMS did not need to prepare a Takings Implication Assessment according to E.O. 12630, Governmental Actions and Interference with Constitutionally Protected Property Rights.

Federalism (Executive Order 13132)

With respect to E.O. 13132, this rule would not have federalism implications. This rule would not substantially and directly affect the relationship between the Federal and State governments. To the extent that State and local governments have a role in OCS activities, this rule would not affect that role.

Civil Justice Reform (Executive Order 12988)

With respect to E.O. 12988, the Office of the Solicitor has determined that this rule does not unduly burden the judicial system and meets the requirements of sections 3(a) and 3(b)(2) of the Order.

Paperwork Reduction Act (PRA)

The proposed revisions do not contain any information collection subject to the PRA and do not require a form OMB83-I be submitted to OMB for review and approval under section 3507(d) of the PRA. The PRA provides that an agency may not conduct or sponsor a collection of information unless it displays a currently valid OMB control number. Until OMB approves a collection of information and assigns a control number, you are not required to respond.

National Environmental Policy Act (NEPA) of 1969

The MMS has determined that this final rule is strictly administrative in nature. This qualifies for a categorical exclusion under 516 Departmental Manual (DM) Chapter 2, Appendix 1.10. Therefore, it is categorically excluded from environmental review under section 102(2)(C) of the National Environmental Policy Act (NEPA), pursuant to 516 DM, Chapter 2, Appendix 1. In addition, the final rule does not involve any of the 10 extraordinary circumstances listed in 516 DM, Chapter 2, Appendix 2. Pursuant to Council on Environmental Quality regulations (40 CFR 1508.4) and the environmental policies and procedures of the Department of the Interior, the term “categorical exclusions” means a category of actions which do not individually or cumulatively have a significant effect on the human environment and that have been found to have no such effect in procedures adopted by a Federal agency and for which neither an environmental assessment nor an environmental impact statement is required.

Energy Supply, Distribution or Use (Executive Order 13211)

Executive Order 13211 requires the agency to prepare a Statement of Energy Effects when it takes a regulatory action that is identified as a significant energy action. This rule is not a significant energy action, and therefore would not require a Statement of Energy Effects because it:

a. Is not a significant regulatory action under E.O. 12866,

b. Is not likely to have a significant adverse effect on the supply, distribution, or use of energy, and

c. Has not been designated by the Administrator of the Office of Information and Regulatory Affairs, OMB, as a significant energy action.

Consultation With Indian Tribes (Executive Order 13175)

Under the criteria in E.O. 13175, we have evaluated this proposed rule and determined that it has no potential effects on federally recognized Indian tribes. There are no Indian lands or tribes on the OCS.

List of Subjects

30 CFR Part 250

Continental shelf, Environmental impact statements, Environmental protection, Government contracts, Investigations, Oil and gas exploration, Penalties, Pipelines, Public lands—minerals resources, Public lands—right-of-way, Reporting and recordkeeping requirements, Sulphur.

30 CFR Part 254

Continental shelf, Environmental protection, Intergovernmental relations, Oil and gas exploration, Oil pollution, Penalties, Pipelines, Public lands—mineral resources, Reporting and recordkeeping requirements.

Dated: July 24, 2006.
R.M. “Johnnie” Burton,
Director, Minerals Management Service, Exercising the delegated authority of the Assistant Secretary, Land and Minerals Management.

For the reasons stated above, MMS amends 30 CFR parts 250 and 254 as follows:

PART 250—OIL AND GAS AND SULPHUR OPERATIONS IN THE OUTER CONTINENTAL SHELF

1. The authority citation for part 250 continues to read as follows:

Authority: 43 U.S.C. 1331 et seq., 31 U.S.C. 9701.

PART 250—[NOMENCLATURE CHANGE]

2. In part 250 remove the words “District Supervisor” wherever they appear and add, in their place, the words “District Manager.”

3. In part 250 remove the words “District or Regional Supervisor” wherever they appear and add, in their place, the words, “District Manager or Regional Supervisor.”

4. In part 250 remove the words “Regional or District Supervisor” wherever they appear and add, in their place, the words “District Manager or Regional Supervisor.”

PART 254—OIL-SPILL RESPONSE REQUIREMENTS FOR FACILITIES LOCATED SEAWARD OF THE COAST LINE

5. The authority citation for part 254 continues to read as follows:

Authority: 44 U.S.C. 3501 et seq.

PART 254—[NOMENCLATURE CHANGE]

6. In part 254 remove the words “District Supervisor” wherever they appear and add, in their place, the words, “District Manager.”

[FR Doc. 06-6884 Filed 8-11-06; 8:45 am]

BILLING CODE 4310-MR-P